DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Times: November 5-6, 2014, 9:30 a.m.-4:00 p.m. EST.

Place: U.S. Department of Health and Human Services, Health Resources and Services Administration, Parklawn Building, Conference Room #5W-07, 5600 Fishers Lane, Rockville, Maryland 20857, In-Person with Webinar Format Added.

Status: This advisory council meeting will be open to the public.

Purpose: The purpose of this meeting is to discuss the future of nursing practice in the context of interprofessional collaborative practice while identifying the strengths, challenges, achievable solutions, and replicable models required and/or available to move from discussion to providing high quality team-based care. This meeting will form the basis for NACNEP's mandated Thirteenth Annual Report to the Secretary of the U.S. Department of Health and Human Services and Congress. The meeting will include presentations and discussion focused around the purpose and objectives of this meeting.

Agenda: A tentative agenda will be available on the NACNEP Web site 10 days in advance of the meeting with a final agenda posted 1 day prior to the meeting. Agenda items are subject to change as priorities dictate.

SUPPLEMENTARY INFORMATION: Further information regarding NACNEP including the roster of members, Reports to Congress, and minutes from previous meetings is available at the following Web site: http://www.hrsa.gov/advisorycommittees/bhpradvisory/nacnep/index.html.

Members of the public and interested parties may request to participate in the meeting by contacting our Staff Assistant, Jeanne Brown to obtain access information. Access will be granted on a first come, first served basis. Space is limited. Public participants may submit written statements in advance of the scheduled meeting. If you would like to provide oral public comment during the meeting please register with the designated federal official (DFO), CDR Serina Hunter-Thomas. Public comment will be limited to 3 minutes per speaker. Statements and comments can be addressed to the DFO, CDR Hunter-Thomas by emailing her at shunter-thomas@hrsa.gov.

In addition, please be advised that committee members are given copies of all written statements submitted from the public. Any further public participation will be solely at the discretion of the Chair, with approval of the DFO. Registration through the designated contact for the public comment session is required. Any member of the public who wishes to have printed materials distributed to the Advisory Group for this scheduled meeting should submit material to the designed point of contact no later than 12:00 p.m. EST November 1, 2014.

FOR FURTHER INFORMATION CONTACT: Jeanne Brown, Staff Assistant, National Advisory Council on Nurse Education and Practice, Parklawn Building, Room 9-89, 5600 Fishers Lane, Rockville, Maryland 20857; email reachDN@hrsa.gov; telephone (301) 443-5688.

Dated: October 15, 2014.
Jackie Painter,
Acting Director, Division of Policy and Information Coordination.

[FR Doc. 2014-25200 Filed 10-22-14; 8:45 am]

BILLING CODE 4165-15-P